LIBRARY OF CONGRESS

Copyright Office

37 CFR Part 262

[Docket Nos. 2002-1 CARP DTRA3 and 2001-2 CARP DTNSRA]

Digital Performance Right in Sound Recordings and Ephemeral Recordings

AGENCY: Copyright Office, Library of Congress.

ACTION: Correction to final rule.

SUMMARY: This document corrects an error contained in the definition section of the final rule published on February 6, 2004, that set rates and terms for the public performance of a sound recording made pursuant to a statutory license by means of certain eligible nonsubscription transmissions and digital transmissions made by a new subscription service.

EFFECTIVE DATE: March 8, 2004.

FOR FURTHER INFORMATION CONTACT: David O. Carson, General Counsel, or Tanya M. Sandros, Senior Attorney, Copyright Arbitration Royalty Panel (CARP), P.O. Box 70977, Southwest Station, Washington, DC 20024. Telephone: (202) 707-8380; Telefax: (202) 252-3423.

SUPPLEMENTARY INFORMATION: On May 8, 2003, the parties to this rate adjustment proceeding presented the Librarian of Congress with a settlement proposing the rates and terms for the use of sound recordings in eligible nonsubscription transmissions and new subscription services pursuant to the section 112 and section 114 statutory licenses. Section 251.63(b) of title 37 of the Code of Federal Regulations allows the Librarian to adopt the parties' proposed rates and terms without convening a Copyright Arbitration Royalty Panel (“CARP”), provided the proposed rates and terms are published in the Federal Register and no interested party with an intent to participate in the proceeding files an objection to the proposed rates and/or terms. Accordingly, on May 20, 2003, the Copyright Office published the proposed regulations for notice and comment. 69 FR 27506 (May 20, 2003). However, the published document contained an error in § 262.2(a), which defines the term “Aggregate Tuning Hours.” The error appeared in the example illustrating the calculation of Aggregate Tuning Hours and apparently occurred as the Federal Register conformed the document to its style requirements. At that time, the Federal Register inadvertently changed the phrase “If three minutes” to “If 30 minutes.” This error went undetected; as a result, it also appeared in the final rule document published on February 6, 2004. This document corrects that error.

List of Subjects in 37 CFR Part 262

Copyright, Digital audio transmissions, Performance right, Sound recordings

Correction

In FR Doc. 04-2535 appearing on page 5693 in the Federal Register of Friday, February 6, 2004, make the following correction:

§ 262.2 [Corrected]

On page 5696, in the first column, in paragraph (a), in the tenth line, the phrase “If 30 minutes” is corrected to read “If 3 minutes”.

Dated: February 17, 2004.
Marybeth Peters,
Register of Copyrights.

[FR Doc. 04-3957 Filed 2-25-04; 8:45 am]

BILLING CODE 1410-33-P